DEPARTMENT OF ENERGY

Western Area Power Administration

Post-2014 Resource Pool; Loveland Area Projects, Proposed Power Allocation

AGENCY: Western Area Power Administration, DOE.

ACTION: Notice of Proposed Power Allocation.

SUMMARY: Western Area Power Administration (Western), a Federal power marketing agency within the Department of Energy, has announced its Post-2014-Loveland Area Projects (LAP) Resource Pool Proposed Power Allocation developed under the requirements of the Power Marketing Initiative of Western's Energy Planning and Management Program (Program).

Western notified the public of allocation procedures and called for applications on December 17, 2010. Applications were accepted at Western's Rocky Mountain Customer Service Region until 4 p.m. MST, March 4, 2011. Review of the applications received resulted in this Notice of Proposed Power Allocation.

DATES: The comment period on this Notice of Proposed Power Allocation begins today and ends at 4 p.m. on September 12, 2011. To be assured of consideration, Western must receive all written comments by the end of the comment period. Western will hold a public information and comment forum about the Proposed Power Allocation on Thursday, August 25, 2011, at 1:30 p.m. M.D.T (see ADDRESSES section for the forum location).

ADDRESSES: Send written comments to: Mr. Bradley S. Warren, Regional Manager, Rocky Mountain Customer Service Region, Western Area Power Administration, 5555 East Crossroads Boulevard, Loveland, CO 80538-8986. Comments may be delivered by certified mail, commercial mail, e-mail POST2014LAP@wapa.gov, or fax (970) 461-7204.

Information about the Post-2014 Resource Pool-Loveland Area Projects allocation procedures, including comments, letters, and other supporting documents, is available for public inspection and copying at the Rocky Mountain Customer Service Region office, Western Area Power Administration, 5555 East Crossroads Boulevard, Loveland, CO 80538-8986. Background information can also be found at http://www.wapa.gov/rm/PMcontractRM/Post2014.html.

A public information and comment forum on the Proposed Power Allocation will be held on Thursday, August 25, 2011, from 1:30-4:30 p.m. M.D.T., at the Embassy Suites Hotel, Spa and Conference Center, 4705 Clydesdale Parkway, Loveland, CO 80538; telephone number (970) 593-6200.

FOR FURTHER INFORMATION CONTACT: Ms. Linda Swails, Public Utilities Specialist, (970) 461-7339, or Ms. Melanie Reed, Contracts and Energy Services Manager, (970) 461-7229. Written requests for information should be sent to Rocky Mountain Customer Service Region, Western Area Power Administration, Attn: J6200, P.O. Box 3700, Loveland, CO 80539-3003.

SUPPLEMENTARY INFORMATION: Western published the Post-2014 Resource Pool-Loveland Area Projects, Allocation Procedures and Call for Applications (75 FR 78988) on December 17, 2010, to implement Subpart C-Power Marketing Initiative of the Program's Final Rule, 10 CFR part 905, published at 60 FR 54151. The Program, developed in part to implement Section 114 of the Energy Policy Act of 1992, became effective on November 20, 1995. The Program establishes project-specific power resource pools and the allocation of power from these pools to new preference customers. The allocation procedures, in conjunction with the General Power Marketing and Allocation Criteria (51 FR 4012, January 31, 1986), establish the framework for allocating power from the LAP resource pool.

Western seeks comments relevant to the Proposed Power Allocation during the comment period. After considering public comments, Western will publish the Final Power Allocation in the Federal Register.

I. Post-2014 Pool Resources

Western will allocate up to 1 percent of the LAP long-term firm hydroelectric resource available as of October 1, 2014. The amount of the resource that will become available on October 1, 2014, is approximately 6.9 megawatts (MW) for the summer season and 6.1 MW for the winter season, and associated energy. This resource pool will be created by reducing existing customers' allocations by up to 1 percent.

II. Proposed Power Allocation

In response to the call for applications, Western received seven applications for the Post-2014 LAP Resource Pool. Western determined that one applicant does not meet the Post-2014 LAP Resource Pool General Eligibility Criteria. The resource pool for capacity and energy will be allocated proportionately by season to the six qualified applicants based on average seasonal loads for the period October 2009 through September 2010. The proposed allocations for the six qualified allottees are shown in the table below and are subject to the minimum (100 kilowatts) and maximum allocation (5,000 kilowatts) criteria.

Allottees | Proposed Post-2014 LAP Resource Pool Power Allocation: Summer kilowatt hours | Proposed Post-2014 LAP Resource Pool Power Allocation: Winter kilowatt hours | Proposed Post-2014 LAP Resource Pool Power Allocation: Summer kilowatts | Proposed Post-2014 LAP Resource Pool Power Allocation: Winter kilowatts
City of Jetmore, Kansas | 458,186 | 301,817 | 280 | 201
City of Pomona, Kansas | 355,544 | 254,622 | 217 | 169
City of Waterville, Kansas | 257,578 | 191,505 | 157 | 127
Doniphan Electric Cooperative Association, Inc | 859,388 | 839,671 | 526 | 558
Kaw Valley Electric Cooperative, Inc | 7,156,517 | 5,561,057 | 4,374 | 3,697
Nemaha-Marshall Electric Cooperative Association, Inc | 2,215,224 | 1,957,478 | 1,354 | 1,301
Total Resource Pool | 11,302,437 | 9,106,150 | 6,908 | 6,053

By June 1, 2014, each allottee must have firm delivery arrangements in place, to be effective October 1, 2014, unless otherwise agreed to in writing by Western. Western must receive a letter of commitment from each allottee's serving utility or transmission provider by June 1, 2014, confirming that the allottee will be able to receive the benefit of Western's Post-2014 LAP Resource Pool Power Allocation. If Western does not receive the commitment letter by June 1, 2014, unless otherwise agreed in writing by Western, Western will withdraw its offer of an allocation.

Western does not own transmission in Kansas. Final allocation of the Post-2014 LAP Resource Pool is contingent upon Western's contractual arrangements for delivery of Federal power into Kansas.

The proposed allocations shown in the table above are based on the LAP marketable resource currently available. If the LAP marketable resource is adjusted in the future, all allocations may be adjusted accordingly.

III. Review Under the Paperwork Reduction Act

In accordance with the Paperwork Reduction Act of 1980, 44 U.S.C. 3501-3520, Western received approval from the Office of Management and Budget to collect the Applicant Profile Data under control number 1910-5136, which was used to develop this Proposed Power Allocation.

IV. Review Under the National Environmental Policy Act

In compliance with the National Environmental Policy Act of 1969 (NEPA) (42 U.S.C. 4321, et seq.); Council on Environmental Quality Regulations (40 CFR parts 1500-1508); and DOE NEPA Regulations (10 CFR part 1021), Western has determined that this action is categorically excluded from preparing an environmental assessment or an environmental impact statement.

Dated: July 22, 2011.
Timothy J. Meeks,
Administrator.

[FR Doc. 2011-19304 Filed 7-28-11; 8:45 am]

BILLING CODE 6450-01-P